DEPARTMENT OF THE INTERIOR

Bureau of Indian Affairs

Land Acquisitions; Cowlitz Indian Tribe of Washington

AGENCY: Bureau of Indian Affairs, Interior.

ACTION: Notice of Final Agency Determination.

SUMMARY: The Assistant Secretary—Indian Affairs made a final agency determination to acquire approximately 151.87 acres of land into trust for the Cowlitz Tribe of Washington on December 17, 2010.

FOR FURTHER INFORMATION CONTACT: Paula L. Hart, Director, Office of Indian Gaming, Bureau of Indian Affairs, MS-3657 MIB, 1849 C Street, NW., Washington, DC 20240; Telephone (202) 219-4066.

SUPPLEMENTARY INFORMATION: This notice is published in the exercise of authority delegated by the Secretary of the Interior to the Assistant Secretary—Indian Affairs by 209 Departmental Manual 8.1 and is published to comply with the requirements of 25 CFR part 151.12(b) that notice be given to the public of the Secretary's decision to acquire land in trust at least 30 days prior to signatory acceptance of the land into trust. The purpose of the 30-day waiting period in 25 CFR 151.12(b) is to afford interested parties the opportunity to seek judicial review of final administrative decisions to take land in trust for Indian tribes and individual Indians before transfer of title to the property occurs.

On December 17, 2010, the Assistant Secretary—Indian Affairs decided to accept approximately 151.87 acres of land into trust for the Cowlitz Indian Tribe of Washington under the authority of the Indian Reorganization Act of 1934, 25 U.S.C. 465. The land is located in Clark County, Washington, and will be used for constructing and operating a gaming facility.

We have determined that the Cowlitz Indian Tribe's request meets the requirements of the Indian Gaming Regulatory Act. While the Act contains a prohibition of gaming on lands acquired after October 17, 1988 (25 U.S.C. 2179(a)), the Tribe's request qualifies under the Act for an exception to the prohibition (25 U.S.C. 2719(a)).

The 151.87 acre Cowlitz parcel located in Clark County, Washington is described as follows:

Parcel I

Beginning at the intersection of the West line of Primary State Highway No. 1 and the East line of the Southeast quarter of Section 5, Township 4 North, Range 1 East of the Willamette Meridian, Clark County, Washington; thence Northerly along said West line of Primary State Highway No. 1 a distance of 1307.5 feet to the Point of Beginning of this description; thence West 108.5 feet to an angle point thereon; thence Northerly along the fence 880.5 feet to the center line of a creek; thence Northerly along said creek 443 feet to the West line of Primary State Highway No. 1; thence Southerly along said West line of Highway to the Point of Beginning.

Except that portion conveyed to the State of Washington by Auditor's File Nos. G 450664 and G 147358.

Parcel II

That portion of the following described land lying West of the Westerly line of Interstate 5, formerly known as Pacific Highway, in Section 9, Township 4 North, Range 1 East of the Willamette Meridian, Clark County, Washington.

The North half of the Southwest quarter of the Northwest quarter of the South half of the Northwest quarter of the Northwest quarter of Section 9, Township 4 North, Range 1 East of the Willamette Meridian, Clark County, Washington.

Except any portion lying within NW. 31st Avenue.

Also except that portion thereof acquired by the State of Washington by deed recorded under Auditor's File Nos. G 140380 and D 95767.

Parcel III

Beginning at the Northwest corner of the Northeast quarter of the Northeast quarter of Section 8, Township 4, North, Range 1 East of the Willamette Meridian, Clark County, Washington; and running thence East 390 feet to the Point of Beginning; thence East 206 feet; thence South 206 feet; thence West 206 feet; and thence North to the Point of Beginning.

Except that portion lying within the right of way of NW. 319th Street.

Parcel IV

All that part of the Southeast quarter of Section 5, Township 4 North, Range 1 East of the Willamette Meridian, Clark County, Washington, lying West of Primary State Road No. 1 (Pacific Highway).

Except the Henry Ungemach tract recorded in Volume 76 of Deeds, page 33, records of Clark County, Washington, described as follows:

Beginning at a point 19.91 chains North of the Southwest corner of said Southeast quarter; thence East 13.48 chains to creek; thence Northerly along creek to North line of said Southeast quarter at a point 6.66 chains West of the Northeast corner thereof; thence West to Northwest corner of said Southeast quarter; thence South 19.91 chains to the Point of Beginning.

Also except the John F. Anderson tract as conveyed by deed recorded under Auditor's File No. F 38759, records of Clark County, Washington, described as follows:

Beginning at the Northwest corner of the Southwest quarter of the Southeast quarter of Section 5, Township 4 North, Range 1 East of the Willamette Meridian, Clark County, Washington; and running thence East 514 feet; thence Southerly 340 feet; thence Northwesterly 487 feet to a point 196 feet due South of the Point of Beginning; thence North to the Point of Beginning.

Also except that tract described as follows:

Beginning at a point 26 rods and 9 feet West of the Southeast corner of Section 5, Township 4 North, Range 1 East of the Willamette Meridian, Clark County, Washington; and running thence West 20 rods to County Road; thence North 182 feet; thence East 20 rods; thence South 182 feet to the Point of Beginning.

Also except a certain reserved tract described as follows:

Beginning at the intersection of the West line of Primary State Highway No. 1 (Pacific Highway) and the East line of the Southeast quarter of said Section 5, Township 4 North, Range 1 East of the Willamette Meridian, Clark County, Washington; thence Northerly along said West line of Primary State Highway No. 1, a distance of 1,307.5 feet to the True Point of Beginning of this description; thence West 108.5 feet to an angle point therein; thence Northerly along fence 880.5 feet to center line of creek, thence Northeasterly along said creek 443 feet, more or less, to the West line of Primary State Highway No. 1; thence Southerly along said West line of highway to the True Point of Beginning.

Also except that portion thereof lying with Primary State Highway No. 1 (SR-5) as conveyed to the State of Washington by deed recorded under Auditor's File Nos. G 458085, G 143553 and D 94522.

Also except any portion lying within NW. 319th Sreet and Primary State Highway No. 1.

Parcel V

A portion of the Northwest quarter of the Northeast quarter of Section 8, Township 4 North, Range 1 East of the Willamette Meridian, Clark County, Washington, described as follows:

Beginning at the Northwest corner of the Northeast quarter of Section 8; thence South along the West line of the Northeast quarter of said Section 8, 1320 feet, more or less, to the Southwest corner of the Northwest quarter of said Northeast quarter; thence East along the South line to a point 830 feet West of the Southeast corner of the Northwest quarter of said Northeast quarter; thence North parallel with the East line of said Northeast quarter to a point 600 feet South of the North line of said Northeast quarter; thence East parallel with the North line of said Northeast quarter 370 feet; thence North parallel with the East line of said Northeast quarter 600 feet to the North line of said Section 8; thence West along the North line of said Section 8 to the Point of Beginning.

Except that portion lying within NW 319th Street.

Also except the following described tract:

A portion of the Northwest quarter of the Northeast quarter of Section 8, Township 4 North, Range 1 East of the Willamette Meridian, Clark County, Washington, described as follows:

Beginning at the Northwest corner of the Northeast quarter of said Section 8; thence South along the West line of the Northeast quarter of said Section 8, 1320 feet, more or less, to the Southwest corner of the Northwest quarter of said Northeast quarter; thence East along the South line to a point 830 feet West of the Southeast corner of the Northwest quarter of said Northeast quarter; thence North, parallel with the East line of said Northeast quarter to a point 600 feet South of the North line of said Northeast quarter; thence East, parallel with the North line of said Northeast quarter, 370 feet, said point being the True Point of Beginning of the tract herein described; thence West parallel with the North line of said Northeast quarter, a distance of 457 feet; thence North parallel with the West line of said Northeast quarter, a distance of 240 feet; thence East parallel with the West line of said Northeast quarter, a distance of 240 feet; thence East parallel with the North line of said Northeast quarter, a distance of 157.0 feet; thence North, parallel with the West line of said Northeast quarter, a distance of 360 feet, more or less, to the North line of said Northeast quarter; thence East, along said North line, a distance of 300 feet; thence South, parallel with the West line of said Northeast quarter, a distance of 600 feet, more or less, to the True Point of Beginning.

Parcel VI

A portion of the Northwest quarter of the Northeast quarter of Section 8, Township 4 North, Range 1 East of the Willamette Meridian, Clark County, Washington, described as follows:

Beginning at the Northwest corner of the Northeast quarter of said Section 8, thence South along the West line of the Northeast quarter of said Section 8, 1320 feet, more or less, to the Southwest corner of the Northwest quarter of said Northeast quarter; thence East along the South line to a point 830 feet West of the Southeast corner of the Northwest quarter of said Northeast quarter; thence North, parallel with the East line of said Northeast quarter to a point 600 feet South of the North line of said Northeast quarter; thence East, parallel with the North line of said Northeast quarter 370 feet to a point, said point being True Point of Beginning of the tract herein described; thence West, parallel with the North line of said Northeast quarter, a distance of 457 feet; thence North, parallel with the West line of said Northeast quarter, a distance of 240 feet; thence East, parallel with the North line of said Northeast quarter, a distance of 157.0 feet; thence North, parallel with the West line of said Northeast quarter, a distance of 360 feet, more or less, to the North line of said Northeast quarter; thence East, along said North line, a distance of 300 feet; thence South, parallel with the West line of said Northeast quarter, a distance of 600 feet, more or less, to the True Point of Beginning.

Parcel VII

The East 830 feet of the Northwest quarter of the Northeast quarter of Section 8, Township 4 North, Range 1 East of the Willamette Meridian, Clark County, Washington.

Except the West 370 feet to the North 600 feet thereof.

Also except that portion of the remainder thereof, lying within NW 319th Street.

Parcel VIII

The Northeast quarter of the Northeast quarter of Section 8, Township 4 North, Range 1 East of the Willamette Meridian, Clark County, Washington.

Except that portion of said premises, described as follows:

Beginning at a point 612 feet East of the Northwest corner of said Northeast quarter of the Northeast quarter of said Section 8; thence South 191.0 feet; thence East 228.0 feet; thence North 191.0 feet; thence West 228.0 feet to the Point of Beginning.

Except that portion of said premises, described as follows:

Beginning at a point 390.0 feet East of the Northwest corner of said Northeast quarter of the Northeast quarter of said Section 8; thence East 206.00 feet; thence South 206.0 feet: thence West 206.0 feet; thence North 206.0 feet to the Point of Beginning.

Except that portion of said premises lying within Pekin Ferry County Road, and

Except that portion of said premises lying within County Road No. 25;

Except that portion conveyed to the State of Washington by deed recorded under Auditor's File Nos. G 143551 and G 499101.

Except that portion conveyed to the State of Washington for Interstate 5.

Except that portion conveyed to James Fisher and wife, by instrument recorded under Auditor's File No. G 699690, described as follows:

Beginning at the Southeast corner of the Northeast quarter of the Northeast quarter of Section 8, Township 4 North, Range 1 East of the Willamette Meridian, Clark County, Washington; thence North 200 feet; thence West 435 feet; thence South 200 feet to a point on the South line of the Northeast quarter of the Northeast quarter of said Section; thence East 435 feet to the Point of Beginning.

Parcel IX

That portion of the Northeast quarter of the Northeast quarter of Section 8, Township 4 North, Range 1 East of the Willamette Meridian, Clark County, Washington; described as follows:

Beginning at a point 612 feet East of the Northwest corner of the Northeast quarter of the Northeast quarter of Section 8, Township 4 North, Range 1 East of the Willamette Meridian, Clark County, Washington; thence South 191 feet; thence East 228 feet; thence North 191 feet; thence West 228 feet to the Point of Beginning.

Except County Roads.

Also except that portion thereof conveyed to the State of Washington by deed recorded under Auditor's File Nos. G 500929 and G 143551.

Dated: December 17, 2010.
Larry Echo Hawk,
Assistant Secretary—Indian Affairs.

[FR Doc. 2010-33145 Filed 1-3-11; 8:45 am]

BILLING CODE 4310-4N-P